DEPARTMENT OF COMMERCE

International Trade Administration

[A-533-840]

Certain Frozen Warmwater Shrimp From India: Preliminary Results of Antidumping Duty Administrative Review; 2019-2020

AGENCY: Enforcement and Compliance, International Trade Administration, Department of Commerce.

SUMMARY: The Department of Commerce (Commerce) preliminarily determines that certain frozen warmwater shrimp (shrimp) from India is being, or is likely to be, sold in the United States at less than normal value during the period of review (POR) February 1, 2019, through January 31, 2020.

DATES: Effective June 25, 2021.

FOR FURTHER INFORMATION CONTACT: Adam Simons or Ajay Menon, AD/CVD Operations, Office II, Enforcement and Compliance, International Trade Administration, U.S. Department of Commerce, 1401 Constitution Avenue NW, Washington, DC 20230; telephone: (202) 482-6172 or (202) 482-1992, respectively.

Background

Commerce is conducting an administrative review of the antidumping duty order on shrimp from India. The review covers 155 producers and/or exporters of the subject merchandise. Commerce selected two mandatory respondents for individual examination: RSA Marines and HN Indigos. The POR is February 1, 2019, through January 31, 2020. On April 24, 2020, Commerce tolled all deadlines in administrative reviews by 50 days.¹ On July 21, 2020, Commerce tolled all deadlines in administrative reviews by an additional 60 days.² In January 2021, we extended these preliminary results of this review to no later than June 18, 2021.³ For a complete description of the events that followed the initiation of this review, see the Preliminary Decision Memorandum.⁴

¹ See Memorandum, “Tolling of Deadlines for Antidumping and Countervailing Duty Administrative Reviews in Response to Operational Adjustments Due to COVID-19,” dated April 24, 2020.

² See Memorandum, “Tolling of Deadlines for Antidumping and Countervailing Duty Administrative Reviews,” dated July 21, 2020.

³ See Memorandum, “Extension of Deadline for Preliminary Results of the 2019-2020 Antidumping Duty Administrative Review,” dated January 26, 2021. However, on June 17, 2021, the President signed into law the Juneteenth National Independence Day Act, making June 19 a Federal holiday. See Juneteenth National Independence Day Act, S. 475, Public Law 117-17 (2021). Because the Federal holiday fell on a Saturday, it was observed on Friday, June 18, 2021. Where a deadline falls on a weekend or Federal holiday, the appropriate deadline is the next business day. See Notice of Clarification: Application of “Next Business Day” Rule for Administrative Determination Deadlines Pursuant to the Tariff Act of 1930, As Amended, 70 FR 24533 (May 10, 2005). Accordingly, the deadline for these preliminary results is on June 21, 2021.

⁴ See Memorandum, “Decision Memorandum for the Preliminary Results of the 2019-2020 Administrative Review of the Antidumping Duty Order on Certain Frozen Warmwater Shrimp from India,” dated concurrently with, and hereby adopted by, this notice (Preliminary Decision Memorandum).

Scope of the Order

The merchandise subject to the order is certain frozen warmwater shrimp.⁵ The product is currently classified under the following Harmonized Tariff Schedule of the United States (HTSUS) item numbers: 0306.17.00.03, 0306.17.00.06, 0306.17.00.09, 0306.17.00.12, 0306.17.00.15, 0306.17.00.18, 0306.17.00.21, 0306.17.00.24, 0306.17.00.27, 0306.17.00.40, 1605.21.10.30, and 1605.29.10.10. Although the HTSUS numbers are provided for convenience and for customs purposes, the written product description remains dispositive.

⁵ For a complete description of the scope of the order, see Preliminary Decision Memorandum.

Methodology

Commerce is conducting this review in accordance with section 751(a)(2) of the Tariff Act of 1930, as amended (the Act). Export price is calculated in accordance with section 772 of the Act. Normal value is calculated in accordance with section 773 of the Act.

For a full description of the methodology underlying our conclusions, see the Preliminary Decision Memorandum. The Preliminary Decision Memorandum is a public document and is on file electronically via Enforcement and Compliance's Antidumping and Countervailing Duty Centralized Electronic Service System (ACCESS). ACCESS is available to registered users at http://access.trade.gov. In addition, a complete version of the Preliminary Decision Memorandum can be accessed directly at http://enforcement.trade.gov/frn/. A list of the topics discussed in the Preliminary Decision Memorandum is attached as an Appendix to this notice.

Preliminary Results of the Review

As a result of this review, we preliminarily determine that weighted-average dumping margins exist for the respondents for the period February 1, 2019, through January 31, 2020, as follows:

Exporter/producer | Weighted- average dumping margin (percent)
RSA Marines | 4.73
HN Indigos | 11.36
Companies Not Selected for Individual Review ⁶ | 7.57

Review-Specific Average Rate for Companies Not Selected for Individual Review

⁶ This rate is based on the weighted-average of the margins calculated for those companies selected for individual review using the publicly-ranged U.S. quantities. Because we cannot apply our normal methodology of calculating a weighted-average margin due to requests to protect business proprietary information, we find this rate to be the best proxy of the actual weighted-average margin determined for the mandatory respondents. See Ball Bearings and Parts Thereof from France, et al.: Final Results of Antidumping Duty Administrative Reviews, Final Results of Changed-Circumstances Review, and Revocation of an Order in Part, 75 FR 53661, 53663 (September 1, 2010); see also Memorandum, “Calculation of the Review-Specific Average Rate for the Preliminary Results,” dated concurrently with this notice.

The exporters or producers not selected for individual review are listed in Appendix II.

Disclosure and Public Comment

Commerce intends to disclose the calculations performed in connection with these preliminary results to interested parties within five days after the date of publication of this notice.⁷ Interested parties may submit case briefs to Commerce no later than 30 days after the date of publication of this notice.⁸ Rebuttal briefs, limited to issues raised in the case briefs, may be filed no later than seven days after the time limit for filing case briefs.⁹ Parties who submit case briefs or rebuttal briefs in this proceeding are encouraged to submit with each argument: (1) A statement of the issue; (2) a brief summary of the argument; and (3) a table of authorities.¹⁰ Case and rebuttal briefs should be filed using ACCESS.¹¹

⁷ See 19 CFR 351.224(b).

⁸ See 19 CFR 351.309(c).

⁹ See 19 CFR 351.309(d).

¹⁰ See 19 CFR 351.309(c)(2) and (d)(2).

¹¹ See 19 CFR 351.303.

Pursuant to 19 CFR 351.310(c), interested parties who wish to request a hearing must submit a written request to the Assistant Secretary for Enforcement and Compliance, filed electronically via ACCESS. An electronically-filed document must be received successfully in its entirety by ACCESS by 5:00 p.m. Eastern Time within 30 days after the date of publication of this notice.¹² Hearing requests should contain: (1) The party's name, address, and telephone number; (2) the number of participants; and (3) a list of issues to be discussed. Issues raised in the hearing will be limited to issues raised in the briefs. If a request for a hearing is made, parties will be notified of the time and date for the hearing.¹³

¹² See 19 CFR 351.310(c).

¹³ See 19 CFR 351.310(d).

Commerce intends to issue the final results of this administrative review, including the results of its analysis raised in any written briefs, not later than 120 days after the publication date of this notice, pursuant to section 751(a)(3)(A) of the Act, unless the deadline is extended.

Assessment Rates

Upon completion of the administrative review, Commerce shall determine, and CBP shall assess, antidumping duties on all appropriate entries covered by this review.¹⁴

¹⁴ See 19 CFR 351.212(b)(1).

Pursuant to 19 CFR 351.212(b)(1), because both respondents reported the entered value for all of their U.S. sales, we will calculate importer-specific ad valorem duty assessment rates based on the ratio of the total amount of antidumping duties calculated for the examined sales to the total entered value of the sales for which entered value was reported. Where either the respondent's weighted-average dumping margin is zero or de minimis within the meaning of 19 CFR 351.106(c), or an importer-specific rate is zero or de minimis, we will instruct CBP to liquidate the appropriate entries without regard to antidumping duties.

For the companies which were not selected for individual review, we will assign an assessment rate based on the review-specific average rate, calculated as noted in the “Preliminary Results of Review” section, above. The final results of this review shall be the basis for the assessment of antidumping duties on entries of merchandise covered by the final results of this review and for future deposits of estimated duties, where applicable.¹⁵

¹⁵ See section 751(a)(2)(C) of the Act.

Consistent with its recent notice,¹⁶ Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

¹⁶ See Notice of Discontinuation of Policy to Issue Liquidation Instructions After 15 Days in Applicable Antidumping and Countervailing Duty Administrative Proceedings, 86 FR 884 (January 15, 2021).

Cash Deposit Requirements

The following deposit requirements will be effective for all shipments of the subject merchandise entered, or withdrawn from warehouse, for consumption on or after the publication date of the final results of this administrative review, as provided by section 751(a)(2)(C) of the Act: (1) The cash deposit rate for each specific company listed above will be that established in the final results of this review, except if the rate is less than 0.50 percent and, therefore, de minimis within the meaning of 19 CFR 351.106(c)(1), in which case the cash deposit rate will be zero; (2) for previously reviewed or investigated companies not participating in this review, the cash deposit will continue to be the company-specific rate published for the most recently completed segment; (3) if the exporter is not a firm covered in this review, or the original less-than-fair-value (LTFV) investigation, but the manufacturer is, the cash deposit rate will be the rate established for the most recent segment for the manufacturer of the merchandise; and (4) the cash deposit rate for all other manufacturers or exporters will continue to be 10.17 percent, the all-others rate made effective by the LTFV investigation.¹⁷ These deposit requirements, when imposed, shall remain in effect until further notice.

¹⁷ See Notice of Amended Final Determination of Sale at Less Than Fair Value and Antidumping Duty Order: Certain Frozen Warmwater Shrimp from India, 70 FR 5147 (February 1, 2005).

Notification to Importers

This notice also serves as a preliminary reminder to importers of their responsibility under 19 CFR 351.402(f) to file a certificate regarding the reimbursement of antidumping duties prior to liquidation of the relevant entries during this review period. Failure to comply with this requirement could result in the Secretary's presumption that reimbursement of antidumping duties occurred and the subsequent assessment of double antidumping duties.

Notification to Interested Parties

We are issuing and publishing these results in accordance with sections 751(a)(1) and 777(i)(1) of the Act.

Dated: June 21, 2021.
James Maeder,
Deputy Assistant Secretary for Antidumping and Countervailing Duty Operations.

Appendix I—List of Topics Discussed in the Preliminary Decision Memorandum

I. Summary

II. Background

III. Scope of the Order

IV. Discussion of the Methodology

V. Currency Conversion

VI. Recommendation

Appendix II—Review-Specific Average Rate Applicable to Companies Not Selected for Individual Review

1. Abad Fisheries Private Limited

2. ADF Foods Ltd.

3. Albys Agro Private Limited

4. Al-Hassan Overseas Private Limited

5. Allana Frozen Foods Pvt. Ltd.

6. Allanasons Ltd.

7. Alps Ice & Cold Storage Private Limited

8. Amarsagar Seafoods Private Limited

9. Amulya Seafoods

10. Anantha Seafoods Private Limited

11. Anjaneya Seafoods

12. Asvini Agro Exports

13. Ayshwarya Seafood Private Limited

14. B R Traders

15. Baby Marine Eastern Exports

16. Baby Marine Exports

17. Baby Marine International

18. Baby Marine Sarass

19. Baby Marine Ventures

20. Balasore Marine Exports Private Limited

21. BB Estates & Exports Private Limited

22. Bell Exim Private Limited (Bell Foods (Marine Division))

23. Bell Exim Pvt. Ltd.

24. Bhatsons Aquatic Products

25. Bhavani Seafoods

26. Bijaya Marine Products

27. Blue Fin Frozen Foods Pvt. Ltd.

28. Blue Water Foods & Exports P. Ltd.

29. Britto Seafood Exports Pvt Ltd.

30. Canaan Marine Products

31. Capithan Exporting Co.

32. Cargomar Private Limited

33. Chakri Fisheries Private Limited

34. Chemmeens (Regd)

35. Cherukattu Industries (Marine Div)

36. Cochin Frozen Food Exports Pvt. Ltd.

37. Continental Fisheries India Pvt. Ltd.

38. Coreline Exports

39. Corlim Marine Exports Pvt. Ltd.

40. Crystal Sea Foods Private Limited

41. Delsea Exports Pvt. Ltd.

42. Devi Sea Foods Limited ¹⁸

¹⁸ Shrimp produced and exported by Devi Sea Foods Limited (Devi) was excluded from the order effective February 1, 2009. See Certain Frozen Warmwater Shrimp from India: Final Results of the Antidumping Duty Administrative Review, Partial Rescission of Review, and Notice of Revocation of Order in Part, 75 FR 41813, 41814 (July 19, 2010). Accordingly, the results of this administrative review apply to Devi only for shrimp produced in India where Devi acted as either the manufacturer or exporter (but not both).

43. Empire Industries Limited

44. Entel Food Products Private Limited

45. Esmario Export Enterprises

46. Everblue Sea Foods Private Limited

47. Febin Marine Foods

48. Fouress Food Products Private Limited

49. Frontline Exports Pvt. Ltd.

50. G A Randerian Ltd.

51. Gadre Marine Exports

52. Galaxy Maritech Exports P. Ltd.

53. Geo Aquatic Products (P) Ltd.

54. Godavari Mega Aqua Food Park Private Limited

55. Grandtrust Overseas (P) Ltd.

56. Green House Agro Products

57. GVR Exports Pvt. Ltd.

58. Hari Marine Private Limited

59. Haripriya Marine Export Pvt. Ltd.

60. HIC ABF Special Foods Pvt. Ltd.

61. Hiravati Exports Pvt. Ltd.

62. Hiravati International Pvt. Ltd. (located at Jawar Naka, Porbandar, Gujarat, 360 575, India)

63. Hiravati Marine Products Private Limited

64. HMG Industries Limited

65. Hyson Logistics and Marine Exports Private Limited

66. Indian Aquatic Products

67. Indo Aquatics

68. Indo Fisheries

69. Indo French Shellfish Company Private Limited

70. International Freezefish Exports

71. Jinny Marine Traders

72. Jiya Packagings

73. Karunya Marine Exports Private Limited

74. Kaushalya Aqua Marine Products Exports Pvt. Ltd.

75. Kay Kay Exports

76. Kings Marine Products

77. Koluthara Exports Ltd.

78. Landauer Ltd.

79. Libran Cold Storages (P) Ltd.

80. Mangala Sea Products

81. Marine Harvest India

82. Megaa Moda Pvt. Ltd.

83. Milsha Agro Exports Private Limited

84. Milsha Sea Products

85. Minaxi Fisheries Private Limited

86. Mindhola Foods LLP

87. MMC Exports Limited

88. MTR Foods

89. N.K. Marine Exports LLP

90. Naik Frozen Foods

91. Naik Oceanic Exports Pvt. Ltd./Rafiq Naik Exports Pvt. Ltd.

92. Naik Seafoods Ltd.

93. Nekkanti Mega Food Park Private Limited

94. Nine Up Frozen Foods

95. Nutrient Marine Foods Limited

96. Oceanic Edibles International Limited

97. Paragon Sea Foods Pvt. Ltd.

98. Paramount Seafoods

99. Parayil Food Products Pvt., Ltd.

100. Pesca Marine Products Pvt., Ltd.

101. Pijikay International Exports P Ltd.

102. Pravesh Seafood Private Limited

103. Premier Exports International

104. Premier Marine Foods

105. Premier Seafoods Exim (P) Ltd.

106. RDR Exports

107. R F Exports

108. RF Exports Private Limited

109. R V R Marine Products Limited

110. Raju Exports

111. Raunaq Ice & Cold Storage

112. Royal Imports and Exports

113. Royal Oceans

114. Rupsha Fish Private Limited

115. S Chanchala Combines Private Limited

116. Sagar Samrat Seafoods

117. Sahada Exports

118. Salet Seafoods Private Limited

119. Samaki Exports Private Limited

120. Sasoondock Matsyodyog Sahakari Society Ltd.

121. Seagold Overseas Pvt. Ltd.

122. Shimpo Exports Private Limited

123. Shimpo Seafoods Private Limited

124. Shiva Frozen Food Exp. Pvt. Ltd.

125. Shroff Processed Food & Cold Storage P Ltd.

126. Silver Seafood

127. Sita Marine Exports

128. Sonia Fisheries Private Limited

129. Sri Sakkthi Cold Storage

130. SSF Ltd.

131. Star Agro Marine Exports Private Limited

132. Star Organic Foods Private Limited

133. Stellar Marine Foods Private Limited

134. Sterling Foods

135. Sun Agro Exim

136. Supran Exim Private Limited

137. Suvarna Rekha Exports Private Limited

138. Suvarna Rekha Marines P Ltd.

139. TBR Exports Pvt Ltd.

140. Teekay Marine P. Ltd.

141. The Waterbase Limited

142. Triveni Fisheries P Ltd.

143. U & Company Marine Exports

144. Ulka Sea Foods Private Limited

145. Uniroyal Marine Exports Ltd.

146. Unitriveni Overseas

147. Vasai Frozen Food Co.

148. Veronica Marine Exports Private Limited

149. Victoria Marine & Agro Exports Ltd.

150. Vinner Marine

151. Vitality Aquaculture Pvt. Ltd.

152. VRC Marine Foods LLP

153. Zeal Aqua Limited

[FR Doc. 2021-13622 Filed 6-24-21; 8:45 am]

BILLING CODE 3510-DS-P